DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of September 2002.

Name: National Advisory Council on the National Health Service Corps.

Date and Time:

September 12, 2002, 5 p.m.-7 p.m.

September 13, 2002; 8:30 a.m.-5 p.m.

September 14, 2002; 9 a.m.-5:30 p.m.

September 15, 2002; 8 a.m.-10:30 a.m.

Place: Churchill Hotel, 1914 Connecticut Avenue NW., Washington, DC 20009, (202) 797-2000.

The meeting is open to the public.

Agenda: The agenda will focus on goals set by the Council and the development of a set of recommendations for the management team from the Agency and the Bureau of Health Professions regarding the National Health Service Corps and the designation of health professional shortage areas.

For further information regarding this meeting please contact Ms. Tira Robinson, Office of the Director, Division of National Health Service Corps, at (301) 594-4140.

Agenda items and times are subject to change as priorities dictate.

Dated: August 6, 2002.
Jane M. Harrison,
Director, Division of Policy Review and Coordination.

[FR Doc. 02-20299 Filed 8-9-02; 8:45 am]

BILLING CODE 4165-15-P